DEPARTMENT OF COMMERCE

Office of the Secretary

Estimates of the Voting Age Population for 2009

AGENCY: Office of the Secretary, Commerce.

ACTION: General Notice Announcing Population Estimates.

SUMMARY: This notice announces the voting age population estimates as of July 1, 2009, for each state and the District of Columbia. We are providing this notice in accordance with the 1976 amendment to the Federal Election Campaign Act, Title 2, United States Code, Section 441a(e).

FOR FURTHER INFORMATION CONTACT: Enrique Lamas, Chief, Population Division, U.S. Census Bureau, Room HQ-5H174, Washington, DC 20233, at 301-763-2071.

SUPPLEMENTARY INFORMATION: Under the requirements of the 1976 amendment to the Federal Election Campaign Act, Title 2, United States Code, Section 441a(e), I hereby give notice that the estimates of the voting age population for July 1, 2009, for each state and the District of Columbia are as shown in the following table.

Estimates of the Population of Voting Age for Each State and the District of Columbia: July 1, 2009
Area | Population 18 and over | Area | Population 18 and over
United States | 232,458,335 |  |
Alabama | 3,579,844 | Missouri | 4,556,242
Alaska | 514,927 | Montana | 755,161
Arizona | 4,863,759 | Nebraska | 1,344,978
Arkansas | 2,179,482 | Nevada | 1,962,052
California | 27,525,982 | New Hampshire | 1,035,504
Colorado | 3,796,985 | New Jersey | 6,661,891
Connecticut | 2,710,303 | New Mexico | 1,499,433
Delaware | 678,129 | New York | 15,117,370
District of Columbia | 485,621 | North Carolina | 7,102,917
Florida | 14,480,196 | North Dakota | 502,873
Georgia | 7,245,419 | Ohio | 8,828,304
Hawaii | 1,004,817 | Oklahoma | 2,768,201
Idaho | 1,126,611 | Oregon | 2,952,846
Illinois | 9,733,032 | Pennsylvania | 9,829,635
Indiana | 4,833,748 | Rhode Island | 826,384
Iowa | 2,294,701 | South Carolina | 3,480,510
Kansas | 2,113,796 | South Dakota | 612,767
Kentucky | 3,299,790 | Tennessee | 4,803,002
Louisiana | 3,368,690 | Texas | 17,886,333
Maine | 1,047,125 | Utah | 1,915,748
Maryland | 4,347,543 | Vermont | 495,485
Massachusetts | 5,160,585 | Virginia | 6,035,408
Michigan | 7,619,835 | Washington | 5,094,603
Minnesota | 4,005,417 | West Virginia | 1,433,328
Mississippi | 2,184,254 | Wisconsin | 4,344,524
|  | Wyoming | 412,245
Source: U.S. Census Bureau, Population Division.

I have certified these counts to the Federal Election Commission.

Dated: January 19, 2010.
Gary Locke,
Secretary, U.S. Department of Commerce.

[FR Doc. 2010-1522 Filed 1-26-10; 8:45 am]

BILLING CODE 3510-07-P